DEPARTMENT OF COMMERCE

National Oceanic and Atmospheric Administration

50 CFR Part 648

[Docket No. 260209-0039]

RIN 0648-BO09

Magnuson-Stevens Fishery Conservation and Management Act Provisions; Fisheries of the Northeastern United States; 2026 and Projected 2027 Specifications for the Summer Flounder, Scup, Black Sea Bass, and Bluefish Fisheries

AGENCY: National Marine Fisheries Service (NMFS), National Oceanic and Atmospheric Administration (NOAA), Commerce.

ACTION: Final rule.

SUMMARY: NMFS announces 2026 specifications and projects 2027 specifications for the summer flounder, scup, black sea bass, and bluefish fisheries. The implementing regulations for the Summer Flounder, Scup, and Black Sea Bass Fishery Management Plan (FMP) and the Bluefish FMP require us to publish specifications for the upcoming fishing year for each of these species and to respond to public comments received during the public comment period. The specifications for these species are intended to establish allowable harvest levels that will prevent overfishing, consistent with the most recent scientific information, for the 2026 fishing year.

DATES: Effective February 19, 2026, through December 31, 2026.

ADDRESSES: An Environmental Assessment (EA) was prepared for the 2026-2027 summer flounder, scup, and black sea bass specifications, and a Supplemental Information Report (SIR) was prepared for the 2026-2027 bluefish specifications. Copies of the EA and SIR are available on request from Dr. Christopher M. Moore, Executive Director, Mid-Atlantic Fishery Management Council, Suite 201, 800 North State Street, Dover, DE 19901. They are also accessible via the internet at: https://www.mafmc.org/supporting-documents.

FOR FURTHER INFORMATION CONTACT: Laura Deighan, Fishery Policy Analyst, (978) 281-9184, or laura.deighan@noaa.gov.

SUPPLEMENTARY INFORMATION:

General Background

The Mid-Atlantic Fishery Management Council (Council), in cooperation with the Atlantic States Marine Fisheries Commission (Commission), develops management measures for the summer flounder, scup, black sea bass, and bluefish fisheries. The Council, pursuant to the Magnuson-Stevens Fishery Conservation and Management Act (Magnuson-Stevens Act), develops recommendations regarding fisheries in Federal waters seaward of New York, New Jersey, Delaware, Pennsylvania, Maryland, Virginia, and North Carolina. The Commission, pursuant to the Atlantic Coastal Fisheries Cooperative Management Act, addresses fisheries in State waters from Florida to Maine. These bodies work together in the development of complementary FMPs for species including summer flounder, scup, black sea bass, and bluefish that are harvested in both Federal and State waters, and each year these bodies work together to develop specifications for these fisheries. The Council provides its recommendations to NMFS, and NMFS engages in a Federal rulemaking process by which the agency adopts specifications that become binding on the Federal fisheries. Specifications in these Federal fisheries include stock-wide overfishing limits (OFL) and acceptable biological catches (ABC), as well as various catch and landing subdivisions, such as the commercial and recreational sector annual catch limits (ACL), annual catch targets (ACT), and sector-specific landing limits (i.e., the commercial fishery quota and recreational harvest limit (RHL)) established for 1 to 3 years at a time. Adjustments to commercial management measures for all four species and the recreational management measures for bluefish (i.e., minimum fish sizes, seasonal closures, and possession restrictions) are also considered in the specifications process.

This action implements the 2026 and projects the 2027 ABCs, recreational and commercial ACLs, recreational and commercial ACTs, commercial quotas, and RHLs for all four species. Any fish caught since January 1, 2026, 50 CFR 648.2, will apply to the 2026 specifications included in this action in accordance with 50 CFR 648.103, 648.123, 648.143, and 648.163. This action also implements increases to the recreational possession limits in the bluefish fishery. Changes to summer flounder, scup, and black sea bass recreational management measures were discussed at the joint Council and Commission meeting in December and will be implemented through a separate action.

This action does not implement any changes to the commercial management measures for any of the four species.

Final 2026 and Projected 2027 Specifications

Summer Flounder Specifications

This action adopts the Council and the Commission's Summer Flounder Board-recommended 2026 summer flounder catch and landings limits shown in table 1. The summer flounder specifications are based on the OFLs and a constant, averaged 2026-2027 ABC from the 2025 management track assessment and 12-percent commercial and recreational management uncertainty buffers. These management uncertainty buffers are intended to support greater stability in the catch limits and to allow for the larger 2023- and 2024-year classes to recruit to the fishery. This results in 2026 and projected 2027 commercial quotas of 12.78 million pounds (lb; 5,795 metric tons (mt)) and RHLs of 8.79 million lb (3,987 mt), representing 45-percent and 38-percent increases, respectively, compared to 2025.

Table 1—Summary of the 2026 and Projected 2027 Summer Flounder Fishery Specifications
Specifications | Million pounds (lb) | Metric ton (mt)
OFL | (2026) 31.89 (2027) 32.42 | (2026) 14,466 (2027) 14,705
ABC | 30.01 | 13,611
Commercial ACL | 16.5 | 7,486
Commercial ACT | 14.52 | 6,585
Commercial dead discard estimate | 1.74 | 790
Commercial Quota | 12.78 | 5,795
Recreational ACL | 13.5 | 6,125
Recreational ACT | 11.88 | 5,388
Recreational dead discard estimate | 3.09 | 1,401
RHL | 8.79 | 3,987

This action sets the final summer flounder State-by-State commercial quotas for 2026 (table 2). According to the process described in the summer flounder regulations at § 648.102(c)(1), these State-specific quotas take into account any overages that occurred during the previous (2024) fishing year that were previously unaccounted for and overages in the current (2025) fishing year through October 31, 2025.

Table 2—Final 2026 Summer Flounder State-by-State Commercial Quotas
State | Initial share | Final quotas ¹ (lb) | Final quotas ¹ (kg)
Maine | 0.12 | 15,283 | 6,932
New Hampshire | 0.08 | 10,785 | 4,892
Massachusetts | 8.22 | 1,040,403 | 471,919
Rhode Island | 14.85 | 1,896,868 | 860,405
Connecticut | 4.81 | 614,695 | 278,821
New York | 8.84 | 1,129,431 | 512,301
New Jersey | 15.63 | 1,996,380 | 905,543
Delaware | 0.10 | 12,440 | 5,642
Maryland | 4.65 | 593,878 | 269,378
Virginia | 19.06 | 2,434,894 | 1,104,449
North Carolina | 23.64 | 3,020,221 | 1,369,949
Total | 100.00 | 12,765,277 | 5,794,826
¹ Totals may differ slightly from the sums of the quotas due to rounding.

This action does not include any changes to the current commercial management measures, including the minimum fish size (14-inch (36-centimeters (cm)) total length), gear requirements, and possession limits. This action does not include any changes to the recreational management measures. Any changes to the recreational management measures would take place through a separate action.

Scup Specifications

This action adopts the Council and the Commission's Scup Board-recommended 2026 scup catch and landings limits shown in table 3. The scup specifications are based on the OFLs and ABCs from the 2025 management track assessment projections and no management uncertainty buffers. This results in commercial quotas of 17.70 million lb (8,029 mt) in 2026 and 15.57 million lb (7,060 mt) in 2027 and RHLs of 13.17 million lb (5,972 mt) in 2026 and 11.58 million lb (5,251 mt) in 2027, consistent with the recommendations of the Council and Board.

Table 3—Summary of the 2026 and Projected 2027 Scup Specifications
Specifications | 2026: Million lb | 2026: mt | 2027: Million lb | 2027: mt
OFL | 42.98 | 19,494 | 37.79 | 17,142
ABC | 42.09 | 19,091 | 37.01 | 16,788
Commercial ACL | 27.36 | 12,409 | 24.06 | 10,912
Commercial ACT | 27.36 | 12,409 | 24.06 | 10,912
Expected commercial dead discards | 9.66 | 4,380 | 8.49 | 3,852
Commercial quota | 17.7 | 8,029 | 15.57 | 7,060
Recreational ACL | 14.73 | 6,682 | 12.95 | 5,876
Recreational ACT | 14.73 | 6,682 | 12.95 | 5,876
Expected recreational dead discards | 1.57 | 710 | 1.38 | 624
RHL | 13.17 | 5,972 | 11.58 | 5,251

The final specifications include adjustments required by scup accountability measures based on available catch data, as specified in the regulations. Current data indicate that the 3-year average recreational scup catch exceeds the 3-year average recreational scup ACL. Because biomass is above the target, the current regulations require adjustments to the recreational management measures, taking into account the performance of the measures and conditions that precipitated the overage. Any such changes would be made during the rulemaking for the 2026 and 2027 scup recreational management measures. The Council has recommended changes to the recreational accountability measures in Framework Adjustment 19 to the Summer Flounder, Scup, and Black Sea Bass FMP. Should the changes proposed in Framework 19 be implemented prior to the rulemaking for the 2026 and 2027 recreational measures, a response to the scup recreational ACL overage would not be required. No other scup accountability measures were triggered based on current data.

This action sets the scup commercial quotas by quota period, provided in table 4, as described in the scup regulations at § 648.122(c)(1).

Table 4—2026 Commercial Scup Quotas by Quota Period
Quota period | Percent share | Million lb | mt
Winter I | 45.11 | 7.98 | 3,622
Summer | 38.95 | 6.89 | 3,127
Winter II | 15.94 | 2.82 | 1,280
Total | 100.0 | 17.70 | 8,029

The current quota period possession limits are not changed by this action and are outlined in table 5.

Table 5—2026 Commercial Scup Possession Limits by Quota Period
Quota period | Percent share | Federal possession limits (per trip): lb | Federal possession limits (per trip): kg
Winter I | 45.11 | 50,000 | 22,680
Summer | 38.95 | N/A | N/A
Winter II | 15.94 | 12,000 | 5,443
Total | 100 | N/A | N/A

The Winter I scup commercial possession limit would drop to 1,000 lb (454 kg) if 80 percent of that period's allocation is landed. If the Winter I quota is not fully harvested, the remaining quota would be transferred to Winter II. The Winter II possession limit may be adjusted (in association with a transfer of unused Winter I quota to the Winter II period) via notice in the Federal Register. The regulations specify that the Winter II possession limit would increase to different levels consistent with any increase in the quota, as described in table 6.

Table 6—Potential Increase in Winter II Possession Limits Based on the Amount of Unused Scup Rolled Over From Winter I to Winter II
Initial Winter II possession limit: lb | Initial Winter II possession limit: kg | Rollover from Winter I to Winter II: lb | Rollover from Winter I to Winter II: kg | Increase in initial Winter II possession limit: lb | Increase in initial Winter II possession limit: kg | Final Winter II possession limit after rollover from Winter I to Winter II: lb | Final Winter II possession limit after rollover from Winter I to Winter II: kg
12,000 | 5,443 | 0-499,999 | 0-226,796 | 0 | 0 | 12,000 | 5,443
12,000 | 5,443 | 500,000-999,999 | 226,796-453,592 | 1,500 | 680 | 13,500 | 6,123
12,000 | 5,443 | 1,000,000-1,499,999 | 453,592-680,388 | 3,000 | 1,361 | 15,000 | 6,804
12,000 | 5,443 | 1,500,000-1,999,999 | 680,389-907,184 | 4,500 | 2,041 | 16,500 | 7,484
12,000 | 5,443 | * 2,000,000-2,500,000 | 907,185-1,133,981 | 6,000 | 2,722 | 18,000 | 8,165
* This process of increasing the possession limit in 1,500 lb (680 kg) increments would continue past 2,500,000 lb (1,122,981 kg), but we end here for the purpose of this example.

This action does not include any changes to commercial management measures for scup, including the minimum fish size (9-inch (22.9-cm) total length), gear requirements, and quota period possession limits. As noted above, any potential changes to recreational management measures would take place through a separate action.

Black Sea Bass Specifications

This action adopts the Council and the Commission's Black Sea Bass Board-recommended 2026 black sea bass catch and landings limits shown in table 7. The black sea bass specifications are based on an OFL and ABC using the terminal year biomass and maximum fishing mortality threshold (MFMT) from the 2025 management track assessment and no management uncertainty buffers. The Council, the Board, and the Scientific and Statistical Committee (SSC) recommended an alternative approach to set the OFL and ABC due to concerns regarding the 2025 assessment's projected stock conditions and that this approach had performed as well as using the standard projection methodology when it was simulation-tested during management strategy evaluations. The alternative approach results in commercial quotas of 7.83 million lb (3,553 mt) and RHLs of 8.14 million lb (3,691 mt) in 2026 and 2027, a 31-percent increase and a 30-percent increase, respectively, relative to 2025. The black sea bass specifications also include a 5-percent commercial in-season closure buffer in 2026 and 2027, as provided for in the regulations at § 648.142(a)(15) and recommended by the Council and Board. Given recent patterns in the fishery, an in-season closure is not expected for 2026 or 2027. In the unlikely event it is needed, a 5-percent buffer could have socioeconomic benefits with little risk to stock status.

Table 7—Summary of the 2026 and Projected 2027 Black Sea Bass Specifications
Specifications | 2026-2027: Million lb | 2026-2027: mt
OFL | 21.79 | 9,883
ABC | 21.34 | 9,679
Commercial ACL | 9.6 | 4,356
Commercial ACT | 9.6 | 4,356
Expected commercial dead discards | 1.77 | 803
Commercial quota | 7.83 | 3,553
Recreational ACL | 11.74 | 5,323
Recreational ACT | 11.74 | 5,323
Expected recreational dead discards | 3.60 | 1,633
RHL | 8.14 | 3,691

These final specifications include adjustments required by the black sea bass accountability measures based on available catch data, as specified in the regulations. Current data indicate that the 3-year average recreational black sea bass catch exceeded the 3-year average recreational black sea bass ACL. Because biomass is above the target, the current regulations require adjustments to the recreational management measures, taking into account the performance of the measures and conditions that precipitated the overage. Any such changes would be made during the rulemaking for the 2026 and 2027 black sea bass recreational management measures. As described for scup above, should the changes proposed in Framework 19 be implemented prior to the rulemaking for the 2026 and 2027 recreational measures, a response to the black sea bass recreational ACL overages would not be required. No other black sea bass accountability measures were triggered based on current data.

This action includes no changes to commercial management measures for black sea bass, including the commercial minimum fish size (11-inch (27.94-cm) total length) and gear requirements. As noted above, any potential changes to black sea bass recreational management measures would take place through a separate action.

Bluefish Specifications

This action adopts the Council and the Commission's Bluefish Board-recommended 2026 bluefish catch and landings limits shown in table 8. The bluefish stock remains under a rebuilding program that started in 2022. The 2025 management track assessment projected that the stock will reach the rebuilding target in 2025. However, the stock will not be considered rebuilt until a future stock assessment determines the rebuilding target has been achieved.

The bluefish specifications are based on the OFLs and ABCs from the 2025 assessment projections, a 25-percent commercial management uncertainty buffer, and a 30-percent recreational management uncertainty buffer. The management uncertainty buffers are intended to reduce the likelihood of large swings in the catch limits while the stock is still rebuilding and to account for the uncertainty from the upcoming Marine Recreational Information Program recalibration, as bluefish is primarily a recreational species. The final specifications include adjustments required by the bluefish accountability measures based on available catch data, as specified in the regulations. Current data indicate the bluefish recreational ACL was exceeded by 1.68 million lb (763 mt) in 2024. Because the fishery is under a rebuilding plan, the bluefish accountability measures at § 648.163(d)(1) require payback of recreational ACL overages as soon as practicable, and the final 2026 bluefish specifications make this adjustment in 2026 (included in table 8). This results in commercial quotas of 4.66 million lb (2,115 mt) in 2026 and 4.75 million lb (2,153 mt) in 2027, representing a 54-percent and a 57-percent increase from 2025. It also results in RHLs of 20.34 million lb (9,224 mt) in 2026 and 22.50 million lb (10,206 mt) in 2027, representing a 30-percent and a 43-percent increase from 2025. Aside from the State commercial quota overages, described below, no other bluefish accountability measures were triggered based on current data.

Table 8—Summary of the 2026 and Projected 2027 Bluefish Specifications
Specifications | 2026: Million lb | 2026: mt | 2027: Million lb | 2027: mt
OFL | 48.43 | 21,969 | 49.22 | 22,325
ABC | 44.61 | 20,234 | 45.41 | 20,598
Commercial ACL | 6.25 | 2,833 | 6.36 | 2,884
Commercial ACT | 4.68 | 2,125 | 4.77 | 2,163
Expected commercial dead discards | 0.02 | 10 | 0.02 | 10
Commercial quota | 4.66 | 2,115 | 4.75 | 2,153
Recreational ACL | 38.36 | 17,401 | 39.05 | 17,714
Recreational accountability measures | 1.68 | 763 | 0 | 0
Recreational ACT | 25.17 | 11,418 | 27.34 | 12,400
Expected recreational dead discards | 4.84 | 2,194 | 4.84 | 2,194
RHL | 20.34 | 9,224 | 22.50 | 10,206

The coastwide commercial quota is allocated to coastal States from Maine to Florida based on percent shares specified in the Bluefish FMP and the regulations at § 648.162(d). The final State commercial bluefish quotas provided in table 9 take into account overages that occurred during the 2024 fishing year.

Table 9—Final 2026 Bluefish State Commercial Quota Allocations
State | Initial share | Final quota ¹ (lb) | Final quota ¹ (kg)
Maine | 0.27 | 12,537 | 5,687
New Hampshire | 0.27 | 12,693 | 5,758
Massachusetts | 9.14 | 426,280 | 193,357
Rhode Island | 8.81 | 410,612 | 186,250
Connecticut | 1.14 | 45,220 | 20,511
New York | 17.08 | 796,248 | 361,172
New Jersey | 14.12 | 658,379 | 298,636
Delaware | 0.89 | 41,483 | 18,816
Maryland | 2.23 | 103,833 | 47,098
Virginia | 7.58 | 284,457 | 129,027
North Carolina | 32.04 | 1,493,521 | 677,450
South Carolina | 0.08 | 3,912 | 1,774
Georgia | 0.08 | 3,533 | 1,603
Florida | 6.29 | 293,118 | 132,956
Total | 100 | 4,585,827 | 2,080,096
¹ Totals may differ slightly from the sums of the quotas due to rounding.

This action increases the bluefish recreational bag limits, as recommended by the Council and Board, based on the increased RHLs and positive stock trajectory. It proposes a 2-fish increase for both recreational sectors, resulting in a 7-fish bag limit for the for-hire sector and a 5-fish bag limit for private anglers. This action does not include any changes to the commercial management measures for bluefish.

Comments and Responses

The public comment period for the proposed rule ended on December 24, 2025. We received six comments on the proposed rule. No changes to the final rule are necessary as a result of these comments. Three commenters expressed general support for the 2026 and projected 2027 specifications. We agree and are implementing the 2026 and projected 2027 specifications as proposed, and a more detailed response is not provided. One of the commenters who supported the proposed rule also suggested that rules such as this one, supporting sustainable fisheries, be expanded to include other species. The management of other species is not germane to this action, and no further response is provided on this topic. Another comment focused on illegal, unreported, and unregulated fishing and wind development. The comment is not relevant to the current action, and no further response is provided.

Stricter Regulations and Improvements to the Magnuson-Stevens Act

Comment 1: One commenter summarized the rule as sustaining stricter regulations on the relevant species and providing adjustments to the Magnuson-Stevens Act to improve it.

Response: The majority of catch limits contained in this rule will increase based on the best scientific information currently available. The rule does not make changes to the Magnuson-Stevens Act, but adjusts catch limits and management measures under existing authority provided in the Magnuson-Stevens Act.

Accessibility of Information

Comment 2: One commenter suggested that this rule would be improved by making the information in the rule more accessible to the general public, particularly when permits are issued, which would help reduce recreational fishing violations.

Response: Information on fisheries catch limits and management measures is provided through multiple venues to increase the accessibility of information to interested parties. The proposed rule for this action was published in the Federal Register and included an opportunity for public comment, in accordance with the Administrative Procedure Act (APA). This final rule is also published in the Federal Register in accordance with the APA, which makes it publicly available.

Information about the proposed rule and comment period was also provided in a web bulletin on the NMFS website and sent to summer flounder, scup, black sea bass, and bluefish stakeholders, including all permit holders, via an email bulletin. The web bulletin will be updated with information about the final rule, and NMFS will send another email bulletin summarizing the final rule. Once the final specifications are effective, relevant pages on the NMFS website (e.g., species-specific pages) will be updated with information on the current catch limits and management measures. In addition, the Code of Federal Regulations will be updated to reflect changes made to Federal regulations.

Transparency and Equity

Comment 3: One recreational angler expressed concerns that the use of the MFMT and terminal year biomass to set the black sea bass specifications results in reduced transparency about long-term sustainability and that the practical effect of this approach is to defer recreational liberalization. The commenter suggested that the rule should clarify how and when the increased RHL will be reflected in liberalized recreational measures. The commenter also expressed concern that the application of the 5-percent in-season closure buffer for the commercial sector contrasts with rigid limits that do not include opportunities for adjustment in the recreational sector, resulting in a lack of equity. The commenter suggested that the Council and Commission should explore ways to promote recreational liberalization and fairness.

Response: The commenter did not provide further explanation why the use of MFMT and terminal year biomass in place of the standard projections decreases transparency, and the SSC and Council developed the recommended specifications through public processes. Both approaches rely on the data and analysis in the most recent black sea bass management track assessment. As noted in the proposed rule, the use of MFMT and terminal year biomass to set the 2026 and projected 2027 black sea bass specifications was recommended due to persistent and substantial inconsistency between previous assessments' projected stock conditions and updated stock information from subsequent black sea bass assessments. In general, projection models for species well above their biomass targets have recommended substantial decreases in OFLs and ABCs when projecting 2 or more years out because fishing mortality (F) is assumed to equal fishing mortality at maximum sustainable yield (FMSY), resulting in biomass declining towards the biomass target. This trend was present in the 2026 and 2027 black sea bass assessment projections, despite the 2025 management track assessment indicating F was only 73 percent of FMSY in 2024. The assessment projections would have resulted in a small decrease for the 2026 ABC followed by a substantial decrease for 2027, relative to 2025. The use of MFMT and terminal year biomass was tested in previous simulation studies and was found to perform as well as using the standard projection methodology.

The use of this approach did not result in deferred liberalization of recreational measures. Recreational measures for summer flounder, scup, and black sea bass are not typically set during the annual specifications process. The RHL included in this rule is one of multiple factors used to evaluate and recommend recreational management measures for the next year. The Council and Boards typically take final action on the recreational measures in State waters and make recommendations regarding recreational measures in Federal waters during their joint December meeting, which is then followed by the Federal rulemaking process. For example, a final rule for the 2025 black sea bass recreational measures was published on June 26, 2025 (90 FR 27254), while the final specifications were published on December 10, 2024. The Council finalized its recommended black sea bass recreational measures at the December 2025 meeting, and the Federal rulemaking process for the 2026 and 2027 recreational measures will include an opportunity for public comment. Comments on those measures are not relevant to the current specifications action but will be requested as part of the process to set recreational measures.

With respect to the 5-percent commercial in-season closure buffer creating inequities between the commercial and recreational sectors, the option to include this buffer in the black sea bass specifications is responsive to constraints specific to the commercial fishery. The commercial and recreational fisheries are managed differently, with an intention to provide equity between the two sectors while accounting for differences between them. Unlike the commercial fishery, the recreational accountability measures (50 CFR 648.143(d)) do not include in-season closures when the RHL has been reached. In addition, the recreational accountability measures that consider overages apply only when the recreational ACL has been exceeded. The accountability measures provide additional flexibility to the recreational sector by requiring strict paybacks only under certain circumstances (e.g., biomass is below the threshold), allowing paybacks spread over 2 years, and allowing adjustments to recreational measures instead of paybacks in certain circumstances (e.g., biomass is between the threshold and the target and the stock is not under a rebuilding plan).

The commercial sector is more strictly managed to the commercial quota. The Commission allocates the black sea bass commercial quota among the relevant States. Commercial landings are monitored throughout the year, and the Commission closes a State's fishery when data indicate the State's quota has been reached. NMFS monitors coastwide landings and would close the commercial fishery coastwide only if the coastwide quota plus the buffer has been reached. When one or more States exceed their quota, the buffer provides an opportunity for other States, including States that divide their black sea bass quotas into individual fishing quotas (IFQ), to more fully harvest their allocation before the Federal coastwide closure is implemented. This increases equity among the States and for commercial fishermen who have invested in IFQ. The black sea bass commercial accountability measures (§ 648.143) require paybacks for any commercial quota overages, regardless of whether the commercial ACL is exceeded (non-landings overages of the commercial ACL are also paid back, depending on the status of the stock). These paybacks reduce the risk of impacts on the black sea bass stock from the application of the in-season closure buffer. The buffer is set as one component of the specifications, which allows the Council and Board to consider current information on the state of the stock and the performance of the commercial fishery when adopting a buffer between 0 and 5 percent of the quota. The Council and Board determined that a 5-percent buffer in 2026 and 2027 would pose little risk to the stock based on the current high biomass and the low likelihood that the coastwide quota would be exceeded.

As previously stated, the summer flounder, scup, and black sea bass recreational measures are addressed through a separate rulemaking. Suggestions about management changes to provide greater liberalization and fairness to the recreational sector are not germane to the current specifications action.

Changes From the Proposed Rule

This final rule includes minor adjustments to the specifications to correct rounding errors. It includes adjustments to the summer flounder State-by-State commercial quotas to account for prior overages for fishing year 2024 and preliminary catch information for fishing year 2025, which were identified following the publication of the proposed rule. Similarly, this rule includes changes to the bluefish State-by-State commercial quotas to account for prior overages identified in the final catch information for fishing year 2024, and to the bluefish recreational ACT to account for a recreational ACL overage in 2024.

Classification

Pursuant to sections 304(b)(1)(A) and 305(d) of the Magnuson-Stevens Act, the NMFS Assistant Administrator has determined that this rule is consistent with the Summer Flounder, Scup, and Black Sea Bass FMP, the Bluefish FMP, other provisions of the Magnuson-Stevens Act, and other applicable law. NMFS is issuing this rule pursuant to sections 304(b)(1)(A) and 305(d) of the Magnuson-Stevens Act, which provide specific authority for implementing this action. Section 304(b) of the Magnuson-Stevens Act authorizes NMFS to implement rules and regulations deemed necessary by the Council. In a previous action under section 304(b), the regulations at 50 CFR 648.102(c), 648.122(b), 648.142(b), and 648.162(c) authorize NMFS to implement the summer flounder, scup, black sea bass, and bluefish specifications under section 305(d).

The Assistant Administrator for Fisheries finds good cause to waive the 30-day delay in effective date of this action pursuant to 5 U.S.C. 553(d)(3). This action implements 2026 specifications for the summer flounder, scup, black sea bass, and bluefish fisheries. The fishing year for all four species runs from January 1 through December 31 each year. In compliance with the Court's order in North Carolina Fisheries Association v. Daley, these specifications should be effective as soon as possible following the start of the fishing year to allow for fishery participants to incorporate the revised specifications into their fishing plans. This rule also relieves restrictions by increasing the summer flounder, black sea bass, and bluefish commercial quotas and the recreational possession limits in the bluefish fishery, which will allow recreational anglers and for-hire businesses to take advantage of higher limits. See 5 U.S.C. 553(d)(1).

This rule is being issued at the earliest possible date. Preparation of the final rule is dependent on the analysis of commercial summer flounder landings for the prior fishing year (2024) and the current fishing year through October 31, 2025, to determine whether any overages have occurred and adjustments are needed to the final State quotas. This process is codified in the summer flounder regulations, and therefore, cannot be performed earlier. A proposed rule was published on December 9, 2025, with a public comment period through December 24, 2025. This final rule is being published as soon as possible following closure of the comment period.

This final rule has been determined to be not significant for purposes of Executive Order 12866.

This final rule is exempt from Executive Order 14192 because it is a routine fishing action under the Magnuson-Stevens Act.

The Chief Counsel for Regulation of the Department of Commerce certified to the Chief Counsel for Advocacy of the Small Business Administration during the proposed rule stage that this action would not have a significant economic impact on a substantial number of small entities. The factual basis for the certification was published in the proposed rule and is not repeated here. No comments were received regarding this certification. As a result, a regulatory flexibility analysis was not required and none was prepared.

This final rule contains no information collection requirements under the Paperwork Reduction Act of 1995.

List of Subjects in 50 CFR Part 648

Fisheries, Fishing, Reporting and recordkeeping requirements.

Dated: February 17, 2026.
Sarah Malloy,
Acting Deputy Assistant Administrator for Regulatory Programs, National Marine Fisheries Service.

For the reasons set out in the preamble, NMFS amends 50 CFR part 648 as follows:

PART 648—FISHERIES OF THE NORTHEASTERN UNITED STATES

1. The authority citation for part 648 continues to read as follows:

Authority: 16 U.S.C. 1801 et seq.

2. In § 648.164, revise paragraphs (a)(1) and (2) to read as follows:

§ 648.164 Bluefish possession restrictions.

(a) * * *

(1) Private recreational vessels. Any person fishing on board a vessel that is not fishing under a bluefish commercial or charter/party vessel permit issued pursuant to § 648.4(a)(8), may land up to five bluefish per day.

(2) For-hire vessels. Anglers fishing on board a for-hire vessel that is fishing under a bluefish charter/party vessel permit issued pursuant to § 648.4(a)(8), may land up to seven bluefish per person per day.

* * * * *

[FR Doc. 2026-03295 Filed 2-18-26; 8:45 am]

BILLING CODE 3510-22-P